DEPARTMENT OF AGRICULTURE

Cooperative State Research, Education, and Extension Service

Forestry Advisory Council Meeting

AGENCY: Cooperative State Research, Education, and Extension Service.

ACTION: Notice of meeting.

SUMMARY: In accordance with the Federal Advisory Committee Act, 5 U.S.C. App., the United States Department of Agriculture (USDA) announces a meeting of the Forestry Research Advisory Council.

SUPPLEMENTARY INFORMATION: Section 1441(c) of the Agriculture and Food Act of 1981 requires the establishment of the Forestry Research Advisory Council (FRAC) to provide advice to the Secretary of Agriculture on accomplishing efficiently the purposes of the Act of October 10, 1962 (16 U.S.C. 582a, et seq.), known as the McIntire-Stennis Act of 1962. The Council also provides advice related to the Forest Service research program, authorized by the Forest and Rangeland Resources Research Act of 1978 (Pub. L. 95-307, 92 Stat. 353, as amended; 16 U.S.C. 1600 (note)). The Council is composed of 18 voting members from Federal and state agencies, forest industry, forestry schools and state agricultural experiment stations, and volunteer public groups.

The purposes of the meeting are (a) to hear reports from the Forest Service (USDA), the Cooperative State Research, Education and Extension Service (USDA), forest industries, and the National Association of Professional Forestry Schools and Colleges, and (b) to formulate advice on Federal and state forestry research for the Secretary of Agriculture.

Dates and Location: The Council will meet on December 10, 2001, from 8:30 a.m. to 4 p.m., and on December 11, 2001, from 8:30 a.m. to 12 noon in the Plant and Animal Systems conference room (room 3455) of the Waterfront Centre located at 800 9th Street, SW., Washington, DC 20024. A complete agenda will be available prior to the meeting. To request a copy of the agenda call Dr. Catalino A. Blanche, FRAC Coordinator, at (202) 401-4190, or fax your request at (202) 401-1706, or e-mail cblanche@reeusda.gov.

Comments: The public may file written comments before or after the meeting to the FRAC Coordinator. All statements will become a part of the official records of the Forestry Research Advisory Council and will be kept on file for public review in the FRAC Coordinator's office, Room 3413, Waterfront Centre, 800 9th Street, SW., Washington, DC 20024.

FOR FURTHER INFORMATION CONTACT: Dr. Catalino A. Blanche, FRAC Coordinator, Stop 2210, 1400 Independence Avenue, SW., Washington, DC 20250; phone (202) 401-4190; fax (202) 401-1706.

Done at Washington, DC this 27th day of September, 2001.
Joseph J. Jen,
Under Secretary, Research, Education, and Ecomomics.

[FR Doc. 01-25530 Filed 10-10-01; 8:45 am]

BILLING CODE 3410-22-M